DEPARTMENT OF TRANSPORTATION

Federal Aviation Administration

14 CFR Part 71

[Docket No. FAA-2013-0339; Airspace Docket No. 12-AEA-15]

RIN 2120-AA66

Establishment of Area Navigation (RNAV) Routes; Washington, DC

AGENCY: Federal Aviation Administration (FAA), DOT.

ACTION: Final rule.

SUMMARY: This action establishes two new low-altitude RNAV routes, designated T-287 and T-299, to enhance the flow of air traffic to the west of the Washington-Dulles International Airport. Also, there is a name change to one of the navigation fixes; an adjustment to the coordinates of another navigation fix, and a change from a waypoint to a fix for a navigation point.

DATES: Effective date 0901 UTC, October 17, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

History

On April 29, 2013, the FAA published in the Federal Register a notice of proposed rulemaking (NPRM) to establish two new RNAV routes in the Washington, DC area (82 FR 25006). Interested parties were invited to participate in this rulemaking effort by submitting written comments on the proposal. One comment was received.

Discussion of Comments

The Aircraft Owners and Pilots Association (AOPA) commented that they do not support the establishment of T-287 and T-299 and advocated that the FAA withdraw the proposal. AOPA contended that aircraft already are able to circumnavigate the Washington-Dulles (IAD) arrival flows by using existing Victor airways; thus, pilots will avoid use of the proposed T-routes because they are inefficient and lack benefit.

T-287 and T-299 were developed to allow aircraft to navigate via routes that are procedurally separated from the NextGen Optimized Profile Descent arrival procedures in the IAD area. While the new routes may result in more track miles flown as compared to nearby V-143, it should be noted that, during busy periods, Air Traffic Control vectors aircraft on V-143 vectored off the airway to the west very near the tracks of the new T-routes. Aircraft filed via V-377 will fly a shorter distance and more direct routing with the new routes. T-287 and T-299 allow for unrestricted optimized profile descents into the IAD area. The routes were not designed to push traffic farther away from Class B airspace, but to provide additional options for pilots and air traffic controllers alike during weather and high volume traffic periods. Since they mimic the tracks already used for vectoring aircraft, the T-routes provide more consistent, predicable and precise routing. The FAA believes that these routes do benefit both pilots and air traffic controllers.

AOPA further contended that T-routes must be established within Class B airspace to retain an equivalent level of service and access for general aviation. AOPA asserted that, if future T-route development is limited to locations significantly outside the boundaries of Class B airspace, general aviation will loose the limited access it currently has.

Originally, T-routes were developed to serve as “Area Navigation IFR Terminal Transition Routes (RITTR).” RITTRs were intended to provide more direct routing and expedite movement of aircraft around or through congested terminal airspace areas (such as Class B airspace) using RNAV capabilities. In 2007 the FAA decided to discontinue the use of the term “RITTR” in favor of applying the “T-route” designator to all published RNAV routes below 18,000 feet MSL, whether their purpose is to provide more direct access through terminal airspace (such as Class B) or as part of the low altitude en route structure. This change does not alter the fact that T-routes may still be established specifically to enable transit through Class B airspace areas.

AOPA criticized the Washington DC “Optimization of Airspace and Procedures in a Metroplex (OAPM)” effort in that this rule did not include T-routes through the Washington Tri-Area Class B airspace area. AOPA suggested another location for a T-route through the Washington Class B airspace area.

This rule represents just one part of the DC OAPM effort. While a separate DC OAPM rulemaking action included the establishment of two T-routes (T-291 and T-295) through the east side of the Washington Tri-Area Class B airspace (78 FR 37104, June 20, 2013), establishing T-routes through the Class B airspace is outside the scope of this specific rule. The Washington Tri-Area Class B area is currently under review for possible modification in the future. An Ad Hoc Committee was formed to recommend possible Class B changes to the FAA. The FAA is reviewing the Committee's recommendations and will initiate further public participation at a later date. The issue of access through the Class B will be considered as part of that effort. It should be noted that any future DC Class B modifications will be influenced by the requirements of the “Washington, DC Metropolitan Area Special Flight Rules Area (14 CFR part 93, subpart V).”

Differences From the NPRM

This rule corrects an error in the header line of the legal description of RNAV route T-287, as published in the NPRM, by removing the abbreviation “(GVE).” GVE was mistakenly inserted in the NPRM and is not a part of the T-287 description. The coordinates for the WILMY waypoint in T-287 were adjusted slightly along the track to facilitate a more optimum minimum en route altitude. This rule also changes the name of the “HAANK” waypoint in T-299 to “UCREK.” After the NPRM was published, it was found that the name “HAANK” was unavailable. The latitude/longitude coordinates for UCREK are the same as were listed for HAANK in the NPRM. Also in T-299, the “SCAPE” navigation point is changed from a “waypoint” to a “fix.” Except for these corrections and editorial changes, this rule is the same as published in the NPRM.

The Rule

The FAA is amending Title 14, Code of Federal Regulations (14 CFR) part 71 to establish two new RNAV routes (T-287 and T-299) west of the Washington-Dulles International Airport (IAD) area. The new routes support the Washington, DC Optimization of Airspace and Procedures in a Metroplex (OAPM) project and enable aircraft to circumnavigate IAD arrival flows. Aircraft transiting through the Washington, DC area are routinely vectored to the west of the IAD area in order to separate them from the major arrival flows into the IAD area. T-287 and T-299 are designed to mimic the flight paths currently used for vectoring these transiting aircraft. The routes provide consistent and predictable routing for aircraft to file and navigate while being assured of separation from larger turbojet aircraft entering and exiting the Washington, DC area. Further, the routes reduce air traffic controller workload and enhance efficiency within the National Airspace System.

Low altitude RNAV routes are published in paragraph 6011 of FAA Order 7400.9W dated August 8, 2012, and effective September 15, 2012, which is incorporated by reference in 14 CFR 71.1. The RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it establishes RNAV routes to as required to preserve the safe and efficient flow of air traffic in the Washington, DC area.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012, and effective September 15, 2012, is amended as follows:

Paragraph 6011 United States Area Navigation Routes

* * * * *

T-287 DENNN, VA to TOMYD, MD [New]
DENNN, VA | WP | (Lat. 38°05′06″ N., long. 078°12′28″ W.) | CAARY, VA | WP | (Lat. 38°19′40″ N., long. 078°23′37″ W.) | WILMY, VA | WP | (Lat. 38°32′30″ N., long. 078°33′32″ W.) | KAIJE, VA | WP | (Lat. 38°44′35″ N., long. 078°42′48″ W.) | BAMMY, WV | WP | (Lat. 39°24′33″ N., long. 078°25′46″ W.) | REEES, PA | WP | (Lat. 39°47′52″ N., long. 077°45′56″ W.) | TOMYD, MD | WP | (Lat. 39°40′ 52″ N., long. 077°08′26″ W.)
T-299 UCREK, VA to SCAPE, PA [New]
UCREK, VA | WP | (Lat. 38°01′33″ N., long. 079°02′56″ W.) | KAIJE, VA | WP | (Lat. 38°44′35″ N., long. 078°42′48″ W.) | BAMMY, WV | WP | (Lat. 39°24′33″ N., long. 078°25′46″ W.) | REEES, PA | WP | (Lat. 39°47′52″ N., long. 077°45′56″ W.) | SCAPE, PA | Fix | (Lat. 39°56′42″ N., long. 077°32′12″ W.)

Issued in Washington, DC, on August 21, 2013.
Gary A. Norek,
Manager, Airspace Policy and ATC Procedures Group.

[FR Doc. 2013-21004 Filed 8-28-13; 8:45 am]

BILLING CODE 4910-13-P